DEPARTMENT OF TRANSPORTATION

Federal Transit Administration

49 CFR Part 659

[FTA-A-2002-11440]

RIN 2132-AA69

Rail Fixed Guideway Systems; State Safety Oversight

AGENCY: Federal Transit Administration, DOT.

ACTION: Direct final rule.

SUMMARY: The Federal Transit Administration (FTA) is revising the definition of “accident” as used in the State Safety Oversight regulation to achieve consistency with the reporting requirements of the revised Safety and Security Module of the National Transit Database (NTD), updated February 2002. The term and definition of “accident” is removed and replaced with the term and definition “major incident.”

DATES: This rule is effective July 2, 2002 unless a written adverse comment, or written notice of intent to submit an adverse comment, reaches the Docket Management Facility on or before June 3, 2002. If an adverse comment, or notice of intent to submit an adverse comment, is received, FTA will withdraw this direct final rule and publish a notice of withdrawal in the Federal Register.

ADDRESSES: You may mail your comments to the United States Department of Transportation, Docket Management Facility, PL-401, 400 Seventh Street SW., Washington, DC 20590. Written comments must refer to the above docket number. All comments received will be available for inspection at the above address from 9 a.m. to 5 p.m., Monday through Friday, except Federal holidays. Those desiring the agency to acknowledge receipt of their comments should include a self-addressed stamped postcard with their comments. You may also access this docket on the Internet at http://dms.dot.gov. The fax number is (202) 493-2251.

FOR FURTHER INFORMATION CONTACT: For questions regarding this rule, contact Jerry Fisher or Roy Field, Office of Safety and Security, FTA, telephone 202-366-2233, fax 202-366-7951. For questions on viewing or submitting material to the docket, contact Dorothy Beard, Chief, Dockets, Department of Transportation, telephone 202-366-9329.

SUPPLEMENTARY INFORMATION:

Request for Comments

FTA encourages interested persons to participate in this rulemaking by submitting written data, views, or arguments. Persons submitting comments should include their names and addresses, identify this rulemaking [FTA 2002-11440] and the specific section of this document to which each comment applies, and give the reason for each comment. Please submit all comments and attachments in an unbound format, no larger than 8½ by 11 inches, suitable for copying and electronic filing to the Docket Management Facility at the address under ADDRESSES above. You may submit your comments and material by mail, hand delivery, fax, or electronic means to the Docket Management Facility at the address under ADDRESSES, but please submit your comments and materials by only one means. FTA will consider all comments and material received during the comment period.

Regulatory Information

The FTA is publishing a direct final rule because it anticipates no adverse comment. If no adverse comment or written notice of intent to submit an adverse comment is received within the specified comment period, this rule will become effective as stated in the DATES section. In that case, approximately 30 days before the effective date, FTA will publish a document in the Federal Register stating that no adverse comment was received and confirming that this rule will become effective as scheduled. However, if FTA receives a written adverse comment or written notice of intent to submit an adverse comment, it will publish a document in the Federal Register announcing withdrawal of all or part of this rule. If FTA decides to proceed with a rulemaking following receipt of an adverse comment, FTA will publish a separate Notice of Proposed Rulemaking (NPRM) and provide a new opportunity for comment.

A comment is considered “adverse” if the comment explains why this rule would be inappropriate, including a challenge to the rule's underlying premise or approach, or why it would be ineffective or unacceptable without a change.

Background and Purpose

This rulemaking will remove the term “accident” under this section and add in its place the definition and term “major incident.” This action is taken because FTA's review of the NTD, as mandated by the Department of Transportation's FY 2000 Appropriations Act, resulted in revisions of the Safety and Security Module of the NTD “Reporting Manual for 2002.” Consequently, the definition of “accident” in Part 659.5 has been removed and replaced with the definition and term “major incident” in this part. The amended reporting criteria include an expanded field of causal events and reporting thresholds. “Major Incidents” include both safety and security occurrences that involve fatalities, multiple injuries, property damage and evacuations resulting from both accidents and crimes.

FTA solicited input from NTD stakeholders, which include rail transit agencies reporting to State Oversight Agencies as required by the State Safety Oversight regulations. It was apparent that two accident/incident reporting definitions would cause confusion, generate inconsistent data, and create an additional burden for rail transit reporters.

Although this rule consists of a change in definition and conforms this section with the NTD reporting requirement, it is emphasized that the reporting requirement of § 659.39, which permits the State Oversight Agency to specify the period of time in which an affected agency must report accidents/major incidents, has not been changed.

Regulatory Evaluation

This direct final rule is not a significant regulatory action under section 3(f) of Executive Order 12866 and does not require an assessment of potential costs and benefits under section 6(a)(3) of that Order. Since the rule is not significant under this Order, it has not been reviewed by the Office of Management and Budget. It is not significant under the regulatory policies and procedures of the Department of Transportation (DOT) (44 FR 11040; February 26, 1979). The Federal Transit Administration (FTA) expects the economic impact of this rule to be so minimal that a full Regulatory Evaluation under paragraph 10(e) of the regulatory policies and procedures of DOT is unnecessary.

This direct final rule would remove the phrase and definition of “accident” in 49 CFR part 659 and add in its place the phrase and definition of “major incident” in order to be consistent with the revised reporting requirements of the NTD. Consequently, this rule would not impose any mandatory cost on the agencies it involves. Any incremental costs are negligible, and the policy and economic impact will have no significant effect.

Small Entities

In accordance with the Regulatory Flexibility Act (5 U.S.C. 601-612), FTA considers whether this rule will have a significant economic impact on a substantial number of small entities. “Small entities” include small businesses, not-for-profit organizations that are independently owned and operated and are not dominant in their fields, and governmental jurisdictions with populations of less than 50,000.

FTA expects that this rule would have a minimal economic impact on small entities. It will provide greater clarity and ease of implementation for small entities by conforming FTA's regulatory definition to that of the NTD.

Paperwork Reduction Act

This rule includes information collection requirements subject to the Paperwork Reduction Act of 1995 (PWRA) (44 U.S.C. 3501, et. seq.) The Office of Management and Budget approved FTA's PWRA request for part 659 under OMB 2132-0558. This rule includes the same information collection previously approved by OMB.

Executive Order 13132

FTA has analyzed this rule under the principles and criteria contained in Executive Order 13132, and has determined that this rule does not have sufficient implications for Federalism to warrant the preparation of a Federalism Assessment. This rulemaking only removes the definition and term accident in part 659 and replaces it with the definition and phrase “major incident;” therefore a Federal assessment is unnecessary.

Other Executive Orders

There are a number of other Executive Orders that can affect rulemakings. These include Executive Orders 13084 (Consultation and Coordination with Indian Tribal Governments), 12988 (Civil Justice Reform), 12875 (Enhancing the Intergovernmental Partnership), 12630 (Governmental Actions and Interference with Constitutionally Protected Property Rights), 12898 (Federal Actions to Address Environmental Justice in Minority Populations and Low-Income Populations), 13045 (Protection of Children from Environmental Health Risks and Safety Risks), and 12889 (Implementation of North American Free Trade Agreement). We have considered these Executive Orders in the context of this rule, and we believe that the rule does not directly affect the matters covered by the Executive Orders.

List of Subjects in 49 CFR Part 659

Railroads.

For the reasons discussed in the preamble, FTA amends 49 CFR Part 659 as follows:

PART 659—RAIL FIXED GUIDEWAY SYSTEMS: STATE SAFETY OVERSIGHT

1. The authority citation for Part 659 continues to read as follows:

Authority: 49 U.S.C. 5330.

2. Amend § 659.5 by removing the definition for “Accident” and adding in alphabetical order a new definition for “Major Incident” and revising the definition for “Investigation” as follows:

§ 659.5 Definitions.

Investigation means a process to determine the probable cause of a major incident or an unacceptable hazardous condition; it may involve no more than a review and approval of the transit agency's determination of the probable cause of a major incident or unacceptable hazardous condition.

Major Incident means any event involving a transit vehicle or occurring on a transit-controlled property, involving one or more of the following:

(1) A fatality;

(2) Injuries requiring immediate medical attention away from the scene for two or more persons;

(3) Property damage equal to or exceeding $25,000;

(4) An evacuation due to life safety reasons;

(5) A collision at a grade crossing;

(6) A main-line derailment;

(7) A collision with person(s) on a right-of-way resulting in injuries that require immediate medical attention away from the scene for one or more persons; and

(8) A collision between a rail transit vehicle and other rail transit vehicle or a transit non-revenue vehicle resulting in injuries that require immediate medical attention away from the scene for one or more persons.

* * * * *

§ 659.39 [Amended]

3. Amend § 659.39 by removing the word “accidents” from the paragraph and section heading and add in its place the words “major incidents.”

§ 659.41 [Amended]

4. Amend § 659.41 by removing the word “accidents” in paragraphs (a) and (b) and add in its place the word “major incidents.”

§ 659.45 [Amended]

5. Amend § 659.45 by removing the word “accidents” in paragraphs (b) and (c) and add in its place the word “major incidents.”

Dated: March 28, 2002.
Jennifer L. Dorn,
Administrator, Federal Transit Administration.

[FR Doc. 02-8051 Filed 4-2-02; 8:45 am]

BILLING CODE 4910-57-M